DEPARTMENT OF DEFENSE

Office of the Secretary

Renewal of Department of Defense Federal Advisory Committee; Advisory Council on Dependents' Education

AGENCY: Department of Defense (DoD).

ACTION: Renewal of Federal advisory committee.

SUMMARY: Under the provisions of 20 U.S.C. 929, the Federal Advisory Committee Act of 1972, (5 U.S.C. Appendix), the Government in the Sunshine Act of 1976 (5 U.S.C. 552b), and 41 CFR 102-3.50, the Department of Defense gives notice that it is renewing the charter for the Advisory Council on Dependents' Education (hereafter referred to as the Council).

FOR FURTHER INFORMATION CONTACT: Jim Freeman, Deputy Committee Management Officer for the Department of Defense, 703-601-6128.

SUPPLEMENTARY INFORMATION: The Council is a non-discretionary Federal advisory committee established to provide independent advice and recommendations on the Department of Defense (DoD) dependents' education system to the Director, Department of Defense Education Activity on the following:

a. General policies for operation of the DoD dependents' education system with respect to curriculum selection, administration and operation of the system;

b. Information from other Federal agencies concerned with primary and secondary education with respect to education programs and practices which such agencies have found to be effective and which should be considered for inclusion in the DoD dependents' education system;

c. The design of the study and the selection of the contractor referred to in 20 U.S.C. 930(a)(2); and

d. Other tasks as may be required by the Secretary of Defense.

The Director, Department of Defense Education Activity may act upon the Council's advice and recommendations.

The Council, pursuant to 20 U.S.C. 929(a), shall be comprised of no more than 16 members who have demonstrated an interest in the field of primary or secondary education and who shall include:

a. The Secretary of Defense and the Secretary of Education or their respective designees;

b. Twelve individuals appointed who shall be individuals who demonstrated an interest in the field of primary or secondary education and who shall include representatives of professional employee organizations, school administrators, and parents of students enrolled in the DoD dependents' education system, and one student enrolled in such system; and

c. A representative of the Secretary of Defense and of the Secretary of Education.

The twelve Council members appointed under the authority of 20 U.S.C. 929(a)(1)(B), shall be appointed jointly by the Secretary of Defense and the Secretary of Education, who must renew the appointments on an annual basis.

Members appointed to the Council from professional employee organizations, pursuant to 20 U.S.C. 929(a)(2), shall be individuals designated by those organizations. Individuals appointed pursuant to 20 U.S.C. 929(a)(2) shall serve a three-year term, and no individual appointed under 20 U.S.C. 929(a)(2) shall serve more than two full terms on the Council.

Council members who are not full-time or permanent part-time Federal officers or employees, shall be appointed by the Secretary of Defense as experts and consultants under the authority of 5 U.S.C. 3109, and serve as special government employees.

With the exception of those individuals appointed pursuant to 20 U.S.C. 929(a)(1) and (2), all Council member appointments shall be renewed on an annual basis by the Secretary of Defense.

Pursuant to 20 U.S.C. 929(d), members of the Council who are not full-time or permanent part-time employees of the Federal government shall, while attending meetings or conferences of the Council or otherwise engaged in the business of the Council, be entitled to compensation at the daily equivalent of the rate specified at the time of such service for level IV of the Executive Services under 5 U.S.C. 5315. All Council members, while on official travel, shall be entitled to compensation for travel and per diem.

The Secretary of Defense and the Secretary of Education or their designated representatives, shall serve as the Council's co-chairs.

The Director, Department of Defense Education Activity shall be the Executive Secretary to the Council, but shall not vote on matters before the Council.

With DoD approval, the Council is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Council, and shall report all their recommendations and advice to the Council for full deliberation and discussion. Subcommittees or workgroups have no authority to make decisions on behalf of the chartered Council nor can they report directly to the Department of Defense or any Federal officers or employees who are not Council members.

Subcommittee members, who are not Council members, shall be appointed in the same manner as the Council members.

The Council shall meet at the call of the Council's Designated Federal Officer, in consultation with the Council's co-chairs. The estimated number of Council meetings is at least two per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Advisory Council on Dependents' Education membership about the Council's mission and functions. Written statements may be submitted at any time or in response to the stated agenda of planned meeting of the Advisory Council on Dependents' Education.

All written statements shall be submitted to the Designated Federal Officer for the Advisory Council on Dependents' Education, and this individual will ensure that the written statements are provided to the membership for their consideration. Contact information for the Advisory Council on Dependents' Education Designated Federal Officer can be obtained from the GSA's FACA Database— https://www.fido.gov/facadatabase/public.asp.

The Designated Federal Officer, pursuant to 41 CFR 102-3.150, will announce planned meetings of the Advisory Council on Dependents' Education. The Designated Federal Officer, at that time, may provide additional guidance on the submission of written statements that are in response to the stated agenda for the planned meeting in question.

Dated: April 20, 2010.
Mitchell S. Bryman,
Alternate OSD Federal Register Liaison Officer, Department of Defense.

[FR Doc. 2010-9540 Filed 4-23-10; 8:45 am]

BILLING CODE 5001-06-P